DEPARTMENT OF THE INTERIOR

Bureau of Land Management

[CA-330-02-1610-00]

Notice of Availability of the Headwaters Forest Reserve Draft Resource Management Plan/Environmental Impact Statement/Environmental Impact Report

AGENCY: Bureau of Land Management, Arcata Field Office, and the California Department of Fish and Game.

ACTION: Notice of availability of the Headwaters Forest Reserve Draft Resource Management Plan/Environmental Impact Statement/Environmental Impact Report.

SUMMARY: The Bureau of Land Management (BLM), and the California Department of Fish and Game (DFG), have prepared A Draft Resource Management Plan (RMP) and a Draft Environmental Impact Statement/Environmental Impact Report (DEIS/DEIR) for the Headwaters Forest Reserve located in Humboldt County, California. The Draft RMP and DEIS/DEIR comply with the National Environmental Policy Act (NEPA), California Environmental Quality Act (CEQA), Federal Land Policy and Management Act (FLPMA), the act authorizing the acquisition of the Headwaters Forest Reserve (H.R. 2107), and BLM and DFG management policies. The Draft RMP and DEIS/DEIR were developed with broad public participation in a scoping process which included three public meetings held in Eureka, Sacramento, and San Francisco, California. The Draft RMP and DEIS/DEIR provide for a range of alternatives reflecting public input for management direction for the Headwaters Forest Reserve. Management is addressed on approximately 7,500 acres of public land with a state interest in the form of a conservation easement over the reserve held by the State of California and managed by the California Department of Fish and Game. Issues raised by the public and addressed in the Draft RMP and DEIS/DEIR include balancing preservation of old-growth forest ecosystems and threatened and endangered species with public recreation access, extent of trail access to or within old-growth groves, types of uses of a trail system, management of traffic impacts to local residents adjacent to the reserve, appropriate levels of watershed and forest restoration, and access of disabled and elderly to old-growth forest. H.R. 2107 provided specific planning direction to address scientific research on forests, fish, wildlife and other such activities that shall be fostered and permitted, providing recreation opportunities, access, construction of minimal necessary facilities so as to maintain the ecological integrity, other management needs, and annual budget. Special designations include Wilderness Study Area, Wild and Scenic River eligibility and suitability, Area of Critical Environmental Concern/Research Natural Area, and Ecological Reserve (State of California designation). The action alternatives were prepared in accordance with applicable planning procedures.

DATES: Public comments must be received on or before July 22, 2002. Three public meetings will be held to solicit input on the draft: Eureka, CA: May 7, 2002; San Francisco, CA, May 14, 2002; and Sacramento, CA, May 15, 2002.

Comments on the DEIS/DEIR

Public comments may be submitted during the public meetings or in writing to the addresses provided below. Written comments on the Headwaters Forest Reserve draft plan/DEIS/DEIR will be considered in preparing the final RMP and EIS/EIR. Comments on the contents of this document are being solicited, particularly comments that address one or more of the following: (1) New information that would affect the analysis; (2) possible improvements in the analysis; and (3) suggestions for improving or clarifying the proposed management direction. Specific comments are most useful. Please note that comments, including names and street addresses of respondents, are available for public review and/or release under the Freedom of Information Act (FOIA). Individual respondents may request confidentiality. If you wish to withhold your name and/or street address from public review or from disclosure under FOIA, you must state this prominently at the beginning of your written comment. Such requests will be honored to the extent allowed by law. All submissions from organizations or businesses, and from individuals identifying themselves as representatives or officials of organizations or businesses, will be made available for public inspection in their entirety.

ADDRESSES: Copies of the Headwaters Forest Reserve Draft Management Plan/Environmental Impact Statement/Environmental Impact Report may be obtained from the following Bureau of Land Management Locations: BLM, Arcata Field Office, 1695 Heindon Road, Arcata, CA 95521, telephone (707) 825-2300; BLM, California State Office, 2800 Cottage Way, Room W-1834, Sacramento, CA 95825, telephone (916) 978-4400; requested by mail at Headwaters Forest Reserve, PO Box 189445, Sacramento, CA 95818-9445, telephone (916) 737-3010 ext. 4326 or (707) 269-2053; requested by e-mail at headwatersplan@att.net. The plan/DEIS/DEIR is available for viewing at www.ca.blm.gov/arcata/headwaters.html.

BLM and DFG will accept oral and written comments, discuss management alternatives, and answer questions pertaining to the draft plan/DEIS/DEIR in three public open house meetings:

Eureka, California: Eureka Inn, 518 7th Street, Eureka, California;

San Francisco, California: Fort mason, Landmark Building A, San Francisco, California;

Sacramento, California: Scottich Rite Memorial Center, 6151 H Street, Sacramento, California.

Comments may be submitted by mail to Headwaters Forest Reserve, PO Box 189445, Sacramento, CA 95818-9445 or by e-mail to headwatersplan@att.net.

FOR FURTHER INFORMATION CONTACT: Headwaters Forest Reserve Management Plan Information Line, (916) 737-3010, ext. 4326; Karen Kovacs, California Department of Fish and Game, (707) 441-5789; Lynda Roush, Bureau of Land Management, (707) 825-2300.

SUPPLEMENTARY INFORMATION: The Headwaters Forest Reserve was acquired by the Secretary of Interior and State of California on March 1, 1999 as a culmination of a comprehensive agreement of 1996, the Headwaters Agreement, between the Department of Interior, State of California, and the Pacific Lumber Company (PALCO), for the transfer of approximately 7,500 acres of old-growth and young-growth timber stands and associated buffers in a reserve, and among other considerations, the completion and approval of a Sustained Yield Plan (SYP) and Habitat Conservation Plan (HCP) for PALCO property. Cash transfer for the purchase of the Headwaters Forest Reserve was authorized in the 1997 Interior Appropriations bill (H.R. 2107) on the federal side and in Assembly Bill 1986 (AB 1986), Headwaters Forest, Owl Creek, and Grizzly Creek, on the state side. The federal legislation authorizing acquisition, (1) established a specific boundary and point of access, (2) called for joint federal-state acquisition, with management by the federal government and an easement to guarantee conservation management granted to the state, and (3) established the requirement for the development of a management plan.

The specific 7,472-acre tract acquired includes 3,088 acres of unharvested conifer forests dominated by redwood groves surrounded by 4,384 acres of previously harvested forest and brush lands. It is located in the northwestern coast ranges of California near Humboldt Bay in Humboldt County, part of California's north coast region. The reserve includes the headwaters of three streams draining into Humboldt Bay; South Fork Elk River, Little South Fork Elk River, and Salmon Creek. The reserve contains three federally listed threatened fish species; southern Oregon/northern California coasts coho salmon, northern California steelhead, and California coastal chinook salmon, and two federally listed threatened animals; marbled murrelet and northern spotted owl. The reserve is designated critical habitat for the coho, chinook, and the murrelet. The reserve is identified in the PALCO HCP as a site for monitoring undisturbed baseline conditions for water quality and wildlife habitat.

Dated: February 15, 2002.
Lynda J. Roush,
Arcata Field Manager.

[FR Doc. 02-9718 Filed 4-19-02; 8:45 am]

BILLING CODE 4310-40-P